DEPARTMENT OF THE INTERIOR

National Park Service

[NPS-WASO-NAGPRA-15403]; [PPWOCRADN0-PCU00RP14.R50000]

Notice of Inventory Completion: University of Wisconsin-Madison, Department of Anthropology, Madison, WI

AGENCY: National Park Service, Interior.

ACTION: Notice.

SUMMARY: The University of Wisconsin-Madison Department of Anthropology has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the University of Wisconsin-Madison Department of Anthropology. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Wisconsin-Madison Department of Anthropology at the address in this notice by June 16, 2014.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains and associated funerary objects under the control of the University of Wisconsin-Madison Department of Anthropology, Madison, WI. The human remains and associated funerary objects were removed from Dane County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Wisconsin-Madison Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. Representatives from the Winnebago Tribe of Nebraska were invited to consult but did not attend.

History and Description of the Remains

In 1951, human remains representing, at minimum, 10 individuals were removed from the Burton site, in Dane County, WI, by David A. Baerreis, former faculty member of the University of Wisconsin-Madison (UW-Madison). The Burton site is likely directly associated with or a part of the Mendota Mounds site. Burials were previously reported at this site and surrounding sites, but only human remains from Baerreis' 1951 excavations are curated at UW-Madison. The human remains are fragmentary or partially complete and include two infants; fragmentary remains of two children; one late adolescent/young adult; one adult; one mid-old age adult; two mid-age adults of probably male sex; and one old-age adult. No known individuals were identified. No associated funerary objects are present. The site dates from the Middle to Late Woodland Periods (ca. A.D. 100-1050), based on the conical and effigy mounds, as well as diagnostic artifacts found in portions of the site.

Between 1953 and 1955, human remains representing, at minimum, one individual were removed from the Dietz site, in Dane County, WI, by David A. Baerreis and Robert Nero in response to the expansion of the City of Madison onto farmland property with known prehistoric occupation. The site included storage pits and effigy mounds. The burial was located on a ridge near the storage pits, rather than in the vicinity of the mounds. It contained the fragmentary human remains of one adult. No known individuals were identified. No associated funerary objects are present. The site dates from the Late Woodland Period (ca. A.D. 750-1050).

In 1947, human remains representing, at minimum, two individuals were removed from the Frost Woods site in Dane County, WI, by David A. Baerreis, during salvage excavations at a conical mound that was in danger of being demolished due to residential development. The human remains are fragmentary, and include two individuals of indeterminate age and sex. No known individual were identified. No associated funerary objects are present. The site dates from the Late Woodland Period (ca. A.D. 750-1050), based on diagnostic triangular projectile points found at the site.

At an unknown date, human remains representing, at minimum, one individual were removed from an unknown site near Lake Kegonsa in Dane County, WI. No other information on the excavation is available. The human remains include a nearly complete skeleton of a mid-old age adult male. No known individuals were identified. No associated funerary objects are present.

Between 1948 and 1949, human remains representing, at minimum, 29 individuals were removed from the Outlet site, in Dane County, WI, by A. H. Whiteford (Beloit College, Wisconsin Archeological Survey) and David A. Baerreis. In August 1948, Whiteford excavated Mounds 1 and 3 as a salvage operation during road construction. He removed a large rectangular pit burial presumably from Mound 1 containing 13 individuals, all of whom had been interred in an extended position. Later in 1948, students from UW-Madison undertook small-scale excavations at Mound 2 and removed the human remains of one individual. In the summer of 1949, Baerreis excavated 12 individuals from Mounds 4 and 5. From Mound 4, three burials were excavated, each with one individual. From Mound 5, three burials were excavated; Burial 1 and 2 each contained one individual, and Burial 3 contained seven individuals. Two additional individuals were excavated from other contexts of the site, including one individual from Test Pit B, Burial 2, and one individual from Burial 1, Feature 2. A remaining individual was removed from either Mound 3 or 4; it is unclear in which mound this specific individual was removed because of discrepancies between the field notes. Many of the human remains are fragmented; some exhibit signs of cremation. No known individuals were identified. The one associated funerary object is a large leaf-shaped biface with corner notches made of Hixton Silicified Sandstone found with Mound 5, Burial 3, which included the remains of seven individuals. The site is associated with the Wisconsin Hopewell Culture, and the burial component of the site dates from the Middle Woodland Period (ca. A.D. 100-400).

In 1974, human remains representing, at minimum, three individuals were removed from the Rosenbaum Rockshelter site, in Dane County, WI, by James Stoltman, former faculty member of UW-Madison. At the time of removal, the burial already had been highly disturbed. The human remains include one infant and two adults. No known individuals were identified. The five associated funerary objects are four triangular projectile points and one portion of an Aztalan Collared ceramic vessel. The site contains multiple components, but the human remains date to the Late Woodland Period (ca. A.D. 750-1050), based on the associated funerary objects.

Determinations Made by the University of Wisconsin-Madison Department of Anthropology

Officials of the University of Wisconsin-Madison Department of Anthropology have determined that:

• Pursuant to 25 U.S.C. 3001(9), the human remains described in this notice are Native American based on their examination by a physical anthropologist, their recovery from known archeological sites, their well-documented provenience in the field records, and associated radiocarbon dates from portions of the sites.

• Pursuant to 25 U.S.C. 3001(9), the human remains described in this notice represent the physical remains of 46 individuals of Native American ancestry.

• Pursuant to 25 U.S.C. 3001 (3)(A), the 6 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Ho-Chunk Nation of Wisconsin and the Winnebago Tribe of Nebraska.

• Treaties, Acts of Congress, or Executive Orders, indicate that the land from which the Native American human remains and associated funerary objects were removed is the aboriginal land of the Ho-Chunk Nation of Wisconsin and the Winnebago Tribe of Nebraska.

• Pursuant to 43 CFR 10.11(c)(1), the disposition of the human remains and associated funerary objects may be to the Ho-Chunk Nation of Wisconsin and the Winnebago Tribe of Nebraska.

Additional Requestors and Disposition

Representatives of any Indian tribe or Native Hawaiian organization not identified in this notice that wish to request transfer of control of these human remains and associated funerary objects should submit a written request with information in support of the request to Sissel Schroeder, University of Wisconsin-Madison, Department of Anthropology, 1180 Observatory Drive, 5240 Social Sciences Building, Madison, WI 53706, telephone (608) 262-0317, email sschroeder2@wisc.edu, by June 16, 2014. After that date, if no additional requestors have come forward, transfer of control of the human remains and associated funerary objects to the Ho-Chunk Nation of Wisconsin and the Winnebago Tribe of Nebraska may proceed.

The University of Wisconsin-Madison Department of Anthropology is responsible for notifying the Ho-Chunk Nation of Wisconsin and the Winnebago Tribe of Nebraska that this notice has been published.

Dated: March 31, 2014.
Sherry Hutt,
Manager, National NAGPRA Program.

[FR Doc. 2014-11283 Filed 5-14-14; 8:45 am]

BILLING CODE 4312-50-P